DEPARTMENT OF HEALTH AND HUMAN SERVICES

Health Resources and Services Administration

Agency Information Collection Activities: Submission to OMB for Review and Approval; Public Comment Request; Information Collection Request Title: Poison Help General Population Survey, OMB No. 0915-0343, Reinstatement

AGENCY: Health Resources and Services Administration (HRSA), Department of Health and Human Services (HHS).

ACTION: Notice.

SUMMARY: In compliance with the Paperwork Reduction Act of 1995, HRSA has submitted an Information Collection Request (ICR) to the Office of Management and Budget (OMB) for review and approval. Comments submitted during the first public review of this ICR will be provided to OMB. The ICR is for reinstatement with change of a previously approved information collection assigned OMB control number 0915-0343 that expired on May 31, 2014. OMB will accept further comments from the public during the review and approval period.

DATES: Comments on this ICR should be received no later than October 16, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer, Lisa Wright-Solomon, at paperwork@hrsa.gov or call (301) 443-1984.

SUPPLEMENTARY INFORMATION: When submitting comments or requesting information, please include the information request collection title for reference, in compliance with Section 3506(c)(2)(A) of the Paperwork Reduction Act of 1995.

Information Collection Request Title: Poison Help General Population Survey OMB Number 0915-0343, Reinstatement.

Abstract: HRSA is requesting approval by OMB for reinstatement with change of a previously approved collection of information (OMB control number 0915-0343). Annually, poison control centers (PCCs) in the U.S. manage approximately 2.8 million calls, providing ready and direct access to vital public health emergency information and response. In 2001, the Poison Help line, a single, national toll-free phone number (800-222-1222) was established to ensure universal access to PCC services, 24 hours a day, 7 days a week. The Poison Help campaign is the only national media effort to promote awareness and use of the national toll-free phone number.

The Poison Help campaign aims to reach a wide audience, as individuals of all ages are at risk for poisoning and may need to access PCC services. The “Poison Help General Population Survey” is a 10-minute telephone survey designed to assess the campaign's impact among 2,000 households in the United States. The survey is conducted with an adult household member and addresses topics related to the types of individuals or organizations to contact for information, advice, and treatment related to a poisoning.

Need and Proposed Use of the Information: Survey results will be used to guide future communication, education, and outreach efforts and will allow the tracking of longitudinal data from near-identical prior surveys conducted in 2008 and 2011. The survey has been updated to include questions regarding one of the Secretary of HHS' priority areas, addressing the opioid crisis, and to definitively ascertain respondents' knowledge of the Poison Help Line and phone usage.

Likely Respondents: This study includes two respondent groups, individuals and households with an adult member 18 years and older.

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Instrument | Number of respondents | Responses per respondent | Total responses | Hours per response | Total burden hours
Survey Respondents | 2000 | 1 | 2000 | .166 | 332
Screened households | 2600 | 1 | 2600 | .016 | 41.6
Total | 4600 |  | 4600 |  | 374

Amy McNulty.
Acting Director, Division of the Executive Secretariat.

[FR Doc. 2017-19608 Filed 9-14-17; 8:45 am]

BILLING CODE 4165-15-P